DEPARTMENT OF THE INTERIOR

National Park Service

National Register of Historic Places; Notification of Pending Nominations

Nominations for the following properties being considered for listing in the National Register were received by the National Park Service before August 30, 2003. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St. NW., 8th floor, Washington DC 20005; or by fax, 202-371-6447. Written or faxed comments should be submitted by October 9, 2003.

Carol D. Shull,
Keeper of the National Register of Historic Places.

COLORADO

Chaffee County

Crescent Moly Mine No. 100 and Mining Camp, Address Restricted, Vicksburg, 03001005

Valley View School, (Rural School Buildings in Colorado MPS) 8465 Co. Rd. 140, Salida, 03001006

Lake County

Hayden Ranch Headquarters, W. of U.S. 24, Leadville, 03001007

Larimer County

Pleasant Valley School, (Rural School Buildings in Colorado MPS) 4032 N. Co. Rd. 25E, Bellvue, 03001008

Montezuma County

Bauer Bank Block, 107 W. Grand Ave., Mancos, 03001009

Prowers County

Holly City Hall, 119 E. Cheyenne St., Holly, 03001010

Rio Grande County

First Methodist Episcopal Church, 215 Washington St., Monte Vista, 03001011

Weld County

Greeley Junior High School, 811 15th St., Greeley, 03001012

DISTRICT OF COLUMBIA

District of Columbia

Western Union Telegraph Company Tenley Site, 4623 41st St., NW., Washington, 03001027

FLORIDA

Hillsborough County

Gardner, Isaac Sr., House, 209 W. Palm Ave., Tampa, 03001013

Pasco County

Dade City Woman's Club, (Clubhouses of Florida's Woman's Clubs MPS) 37922 Palm Ave., Dade City, 03001014

GEORGIA

DeKalb County

Callanwolde (Boundary Increase), 980 Briarcliff Rd., NE., Atlanta, 03001015

Fulton County

Inman Park—Moreland Historic District (Boundary Increase), Roughly bounded by Cleburne, Moreland and DeKalb Aves., Battery Place and a city park, Atlanta, 03001016

Macon County

Montezuma Historic District, Roughly centered along N. and S. Dooly St., Montezuma, 03001017

MASSACHUSETTS

Franklin County

West Whately Historic District, Address Restricted, Whately, 03001018

NEW YORK

Chemung County

Jones, John W., House, 1250 Davis St., Elmira, 03001019

WISCONSIN

Dane County

Outlet Mound, Jct. of Ridgewood and Midwood Aves., Monona, 03001022

Tompkins—Brindler Mound Group, (Late Woodland Stage in Archeological Region 8 MPS) Monona Dr., Monona, 03001023

WYOMING

Laramie County

Certified Welding Corporation, (Industrial Facilities Served by Railroad in Cheyenne, Wyoming MPS) 1122 W. 23rd St., Cheyenne, 03001025

Continental Oil Company, (Industrial Facilities Served by Railroad in Cheyenne, Wyoming MPS) 801 W. 19th St., Cheyenne, 03001030

Laramie County Milk Producers Cooperative Association, (Industrial Facilities Served by Railroad in Cheyenne, Wyoming MPS) 1122 W. 23rd St., Cheyenne, 03001026

McCord—Brady Company, (Industrial Facilities Served by Railroad in Cheyenne, Wyoming MPS) 1506 Thomes Ave., Cheyenne, 03001028

Cheyenne Flour Milling Company, (Industrial Facilities Served by Railroad in Cheyenne, Wyoming MPS) 810-814 W. 23rd St., Cheyenne, 03001024

Wyoming Fuel Company, (Industrial Facilities Served by Railroad in Cheyenne, Wyoming MPS) 720 W. 18th St., Cheyenne, 03001029

[FR Doc. 03-24173 Filed 9-23-03; 8:45 am]

BILLING CODE 4317-51-P